DEPARTMENT OF JUSTICE

Notice of Lodging of Settlement Agreement Under the Comprehensive Environmental Response, Compensation and Liability Act

Under 28 CFR 50.7, notice is hereby given that on March 31, 2008, a proposed Settlement Agreement in the matter of In re Marcal Paper Mills, Inc., Case No. 06-21886(MS), was lodged with the United States Bankruptcy Court for the District of New Jersey.

The proposed Settlement Agreement is between the United States and the purchasers of the Debtor's manufacturing facility in Elmwood Park, New Jersey. The purchasers are Marcal Paper Mills, LLC and Marcal Manufacturing, LLC (“Purchasers”). The proposed Settlement Agreement will resolve certain matters related to the potential liability of the Purchasers under the Comprehensive Environmental Response, Compensation and Liability Act (“CERCLA”), 42 U.S.C. 9601 et seq. Pursuant to the proposed Settlement Agreement, the Purchasers will undertake steps to remediate environmental contamination at the facility and will pay $1,500,000 to the United States.

The Department of Justice will receive for a period of thirty (30) days from the date of this publication comments relating to the Settlement Agreement. Comments should be addressed to the Assistant Attorney General, Environment and Natural Resources Division, and either emailed to pubcomment-ees.enrd@usdoj.gov or mailed to P.O. Box 7611, U.S. Department of Justice, Washington, DC 20044-7611, and should refer to In re Marcal Paper Mills, Inc., D.J. Ref. No. 90-11-3-07683/5.

The Settlement Agreement may be examined at the United States Environmental Protection Agency Region 2, 290 Broadway, New York, New York 10007. During the public comment period, the Settlement Agreement may also be examined on the following Department of Justice Web site: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $5.75 (25 cents per page reproduction cost) payable to the U.S. Treasury, or, if by e-mail or fax, forward a check in that amount to the Consent Decree Library at the stated address.

Maureen Katz,
Assistant Section Chief, Environmental Enforcement Section, Environment and Natural Resources Division.

[FR Doc. E8-6954 Filed 4-3-08; 8:45 am]

BILLING CODE 4410-15-P